DEPARTMENT OF COMMERCE

National Oceanic and Atmospheric Administration

RIN 0648-XL10

Endangered and Threatened Species; Status Review of Southeast Alaska Population of Pacific Herring; Request for Information

AGENCY: National Marine Fisheries Service (NMFS), National Oceanic and Atmospheric Administration (NOAA), Commerce.

ACTION: Notice; request for information.

SUMMARY: We, NMFS, request information, data, and comments pertinent to a risk assessment as part of a status review of the Southeast Alaska population of Pacific herring (Clupea pallasi). On April 11, 2008, we initiated a status review of this herring stock under the Endangered Species Act (ESA). In conducting this status review, we now seek information regarding the stock's population structure and trends, current conditions of its habitat, known and anticipated threats to the viability of the population, and efforts being made to protect the species.

DATES: Information, data, and comments must be received by December 8, 2008.

ADDRESSES: Data, information, or comments may be submitted to Kaja Brix, Assistant Regional Administrator, Protected Resources Division, Alaska Region, NMFS, Attn: Ellen Sebastian.

You may submit information by any of the following methods:

1. Mail: P.O. Box 21668, Juneau, AK 99802;

2. Hand deliver to the Federal Building at 709 West 9th Street, Juneau AK.

3. Fax: (907) 586-7557

4. Email: seakherring@ noaa.gov. Please include “SEAKHerring” as an identifier in the subject line.

FOR FURTHER INFORMATION CONTACT: Kate Savage, NMFS Alaska Region (907) 586-7312, or Kaja Brix, NMFS Alaska Region, (907) 586-7235.

SUPPLEMENTARY INFORMATION:

Background

On April 2, 2007, we received a petition from the Juneau Group of the Sierra Club, Juneau, Alaska, to list the Lynn Canal stock of Pacific herring as a threatened or endangered species under the ESA and to concurrently designate critical habitat. After a review of the petition, we determined that the petitioned action was warranted and published a 90-day finding (72 FR 51619; September 10, 2007) that formally initiated a status review of the stock and requested information and comment from the public. A Biological Review Team (BRT), composed of Federal scientists with expertise in Pacific herring biology and ecology, was convened to conduct the status review. The BRT reviewed existing research and information, including both published and unpublished literature and data on herring stocks throughout the eastern North Pacific.

Based on information contained in the status review produced by the BRT, we published our finding (73 FR 19824; April 11, 2008) that listing the Lynn Canal Pacific herring as threatened or endangered under the ESA was not warranted because the population does not constitute a species, subspecies, or distinct population segment (DPS) under the ESA. Rather, the status review concluded that the Lynn Canal Pacific herring stock is part of a larger Southeast Alaska DPS, extending to Dixon Entrance in the south, where the Southeast Alaska stock is genetically distinguished from the British Columbia stock; and to Cape Fairweather and Icy Point in the north, where the stock is limited by physical and ecological barriers. The status review further concluded that the DPS to which Lynn Canal Pacific herring belong should be considered a candidate species under the ESA. In the April 11, 2008, notice in the Federal Register, we therefore announced the initiation of a status review of the Southeast Alaska Pacific herring DPS. The status review for this stock will include an analysis of risk extinction, an assessment of the factors listed under section 4(a)(1) of the ESA, and an evaluation of conservation efforts for the DPS as a whole.

Information Solicited

With this notice, we request any information, data, or comments pertinent to the status review of the Southeast Alaska Pacific herring DPS, specifically concerning: (1) existing and historical population abundance; (2) existing and historical habitat location and condition; (3) population structure; (4) known and anticipated threats to Southeast Alaska Pacific herring, including destruction or modification of habitat, overutilization, disease or predation, inadequate regulatory mechanisms, or any other natural or human factors; and (5) efforts being made to protect the species.

The Lynn Canal Pacific herring status review is available at: http://alaskafisheries.noaa.gov/protectedresources/herring/.

Dated: October 27, 2008.
James H. Lecky,
Director, Office of Protected Resources, National Marine Fisheries Service.

[FR Doc. E8-26543 Filed 11-5-08; 8:45 am]

BILLING CODE 3510-22-S